DEPARTMENT OF COMMERCE

Census Bureau

Proposed Information Collection; Comment Request; Commodity Flow Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 27, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Cynthia Hollingsworth, Bureau of the Census, Room 8K047, Washington, DC 20233, (301) 763-3655 (or via the Internet at cynthia.davis.hollingsworth@census.gov).

SUPPLEMENTARY INFORMATION:

I. Abstract

The Commodity Flow Survey, a component of the Economic Census, is the only comprehensive source of multi-modal, system-wide data on the volume and pattern of goods movement in the United States. These data are used by government analysts and policy makers at the Federal, State and local levels to estimate the future demand for transportation services and facilities; assess the adequacy of our current transportation infrastructure to accommodate the future demand; and to evaluate the economic, social and environmental impacts of transportation flows. The data also are used extensively by academics, researchers, economic planning organizations, and the business community.

The Commodity Flow Survey is co-sponsored by the Bureau of Transportation Statistics, Research and Innovative Technology Administration, Department of Transportation. The survey provides data on the movement of commodities in the United States from their origin to destination. The survey produces summary statistics on value, tons, ton-miles and average miles by commodity, industry, and mode of transportation. The Census Bureau will publish these shipment characteristics for the nation, census regions and divisions, states, and CFS defined geographical areas.

Primary strategies for reducing respondent burden in the Commodity Flow Survey include: Employing a stratified random sample of business establishments, requesting data on a limited sample of shipment records from each establishment, accepting estimates of shipping activity, and providing the opportunity for establishments to report electronically.

II. Method of Collection

The Commodity Flow Survey will be sent to a sample of business establishments in mining, manufacturing, wholesale, and select retail and services industries. The survey also will cover auxiliary establishments (i.e., warehouses and managing offices) of multi-establishment companies. Each selected establishment will receive four questionnaires, one during each calendar quarter of 2012. On each questionnaire, an establishment will be asked to report data for approximately 20-30 shipments for a predefined reporting week. Respondents may report via paper questionnaire or via secure electronic reporting.

III. Data

OMB Control Number: 0607-0932.

Form Number: CFS 1000 (2012), CFS 2000 (2012).

Type of Review: Regular submission.

Affected Public: Business and other for-profit, small businesses or organizations.

Estimated Number of Respondents: 100,000.

Estimated Time per Response: 2 hours.

Estimated Total Annual Burden Hours: 800,000.

Estimated Total Annual Cost: $20,800,000.

Respondent's Obligation: Mandatory.

Legal Authority: Title 13 U.S.C. 131.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 21, 2011.
Gwellnar Banks,
Management Analyst, Office of the Chief Information Officer.

[FR Doc. 2011-10053 Filed 4-26-11; 8:45 am]

BILLING CODE 3510-07-P